DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before May 2, 2024.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on March 6, 2024.
Donald P. Burger,
Chief, General Approvals and Permits Branch.

Application No. | Applicant | Regulation(s) affected | Nature of the special permits thereof
SPECIAL PERMITS DATA—Granted
13307-M | UPL NA Inc | 172.504 | To modify the special permit to add a hazardous material, to authorize additional packaging, and to waive 49 CFR 172.500 and 172.506.
14201-M | National Air Cargo Group, Inc | 172.204(c)(3), 172.101(j)(1), 173.27(b)(2), 173.27(b)(3), 175.30(a)(1) | To modify the special permit to authorize more than 2,000 pounds NEW explosives to be transported aboard the aircraft and to authorize UN1005, UN3543, and UN3549 to be transported.
14282-M | Dyno Nobel Inc | 172.301(c), 177.835(g) | To modify the special permit to authorize additional hazardous materials.
21403-M | Northrop Grumman Systems Corporation | 173.185(a)(1), 173.185(a)(2) | To modify the special permit to remove paragraphs 7.b.(2) and (4).
21503-M | Samsung Austin Semiconductor, LLC | 171.23(a), 173.304(a)(1), 173.304(a)(2) | To modify the special permit to remove the safety control in paragraph 7.a. of the special permit.
21601-N | Air Liquide Electronics U.S. LP | 173.3(e)(1) | To authorize the transportation in commerce of specification DOT 3A480 cylinders with valve assemblies that have been repaired using an alternate method.
21609-N | Polaris Industries Inc | 172.101(j) | To authorize the transportation in commerce of lithium batteries exceeding 35 kg by cargo-only aircraft.
21624-N | Porsche Logistik GmbH | 172.101(j) | To authorize the transportation in commerce of lithium ion batteries each with a mass exceeding 35 kg net weight per package aboard cargo-only aircraft.
21633-N | Exxon Mobil Corporation | 180.352(b)(1) | To authorize the transportation in commerce of Division 4.3 materials in UN 31A steel intermediate bulk containers that have been requalified using an alternative leakproofness test using nitrogen rather than oxygen.
21634-N | Astra Space Operations, Inc | 173.301(f)(1), 173.302a(a)(1), 178.35(e) | To authorize the transportation in commerce of non-DOT specification cylinders, incorporated into a propellant management system within a satellite. The cylinders are based on the ISO 11119-2 Standard and are not equipped with pressure relief devices.
21638-N | Bae Systems Controls Inc | 172.101(j) | To authorize the transportation in commerce of lithium ion batteries exceeding 35 kg by cargo-only aircraft. Batteries are for use by aerospace vehicles.
21642-N | Air Liquide Electronics U.S. LP | 173.23(a) | To authorize the one-time shipment of non-dot cylinders of Xenon (UN2036) to the USA for discharge and then destruction.
21659-N | Siller Helicopters, Inc | 172.400, 172.101, 172.200, 172.204(c)(3), 172.204(c)(3), 172.300, 173.27(b)(2), 175.30(a)(1) | To authorize the transportation in commerce of certain hazardous materials by 14 CFR Part 133 cargo-only aircraft (rotorcraft external load operations) transporting hazardous materials attached to or suspended from the aircraft, in remote areas of the US only, without being subject to certain hazard communication requirements, quantity limitations and certain loading and stowage requirements.
21667-N | Hanwha Cimarron LLC | 173.302(a) | To authorize the manufacture, mark, sale, and use of non-DOT specification fiber reinforced composite cylinders with non-load sharing plastic liners in compliance with UN/ISO11515: 2013, Type 4.
21673-N | Asset Recycling and Recovery LLC | 173.185(f)(1), 173.185(f)(2), 173.185(f)(3) | To authorize the one-way transportation in commerce of previously burnt, de-energized lithium cells and batteries in roll-off containers for the purposes of disposal.
21693-N | KULR Technology Corporation | 172.704, 173.185(f)(1), 173.185(f)(3)(i) | To authorize the manufacture, mark, sale and use of specially designed thermal runaway shield (TRS) packagings for the transportation in commerce of damaged, defective, or recalled lithium-ion cells and batteries and lithium metal cells and batteries and those contained in and packed with equipment and end of life lithium-ion cells and batteries and lithium metal cells and batteries and those contained in and packed with equipment shipped for recycling, reuse, refurbishment, repurposing or evaluation.
21704-N | KULR Technology Corporation | 172.700(a), 172.200, 173.185(b) | To authorize the manufacture, mark, sale, and use of specially designed thermal runaway shield (TRS) packagings for the transportation in commerce of end-of-life lithium-ion cells and batteries and lithium metal cells and batteries and those contained in and packed with equipment shipped for recycling, reuse, refurbishment, repurposing or evaluation.
21709-N | Kavok Eir, Tov | 172.101(j)(1), 173.27(b)(2), 175.30(a)(1) | To authorize the transportation in commerce of certain Division 1.1 explosives aboard cargo-only aircraft.
21720-N | Environmental Works, Inc | 178.274 | To authorize the transportation in commerce of UN1809, Phosphorus Trichloride in a package that has sustained damage resulting from an accident.

Application No. | Applicant | Regulation(s) affected | Nature of the special permits thereof
SPECIAL PERMITS DATA—Denied
21586-N | OEC Freight (NY) Inc | 173.241 | To authorize the transportation in commerce of a hazardous substance (ethylene glycol) in alternative packaging.
21635-N | Point One USA, LLC | 173.4b(a)(10)(ii) | To authorize the transportation in commerce of certain hazardous materials in the cabin of a passenger-carrying aircraft.

Application No. | Applicant | Regulation(s) affected | Nature of the special permits thereof
SPECIAL PERMITS DATA—Withdrawn
21463-M | Mission Systems Orchard Park Inc | 173.302a(a)(1) | To modify the special permit authorize a larger volume cylinder.
21605-N | The United States Department of Air Force | 172.101 | To authorize the transportation of batteries containing acid or alkali, battery acid fluid , non-spillable wet batteries, and lithium ion batteries (including those packed with or in equipment) on the same vehicle, without being subject to certain requirements of the Hazardous Materials Regulations.
21681-N | Applied Energy Systems, Inc | 172.101(j), 173.187, 173.212, 173.240, 173.242, 176.83(a)(2) | To authorize the transportation in commerce of dry metal catalyst in non-DOT specific bulk packaging.
21710-N | Energy Security Agency, Inc | 173.185(f) | To authorize the transportation in commerce of damaged and undamaged lithium ion batteries that were involved in a thermal runaway incident near Alaska on board the Genius Star XI.

[FR Doc. 2024-06884 Filed 4-1-24; 8:45 am]

BILLING CODE P